DEPARTMENT OF ENERGY

Federal Energy Regulatory Commission

[Docket Nos. EL13-24-000, et al.]

Alaska Electric Light and Power Company, et al.; Notice of Petition for Declaratory Order

Alaska Electric Light and Power Company | Docket Nos. EL13-24-000; Project No. 2307-063
Alaska Energy Authority | Project No. 14241-003
City and Borough of Sitka, Alaska | Project No. 2818-024
Public Utility District No. 1 of Chelan County, Washington | Project No. 2145-115
Public Utility District No. 1 of Snohomish County, Washington | Project No. 2157-209
Public Utility District No. 2 of Grant County, Washington | Project No. 2114-256
Sabine River Authority of Texas and Sabine River Authority, State of Louisiana | Project No. 2305-040
Southeast Alaska Power Agency | Project Nos. 2911-036, 3015-013

Take notice that on November 21, 2012, pursuant to section 207(a)(2) of the Federal Energy Regulatory Commission's (Commission) Rules of Practice and Procedure 18 CFR 385.207(a)(2), Alaska Electric Light and Power Company, Project No. 2307; Alaska Energy Authority, Project No. 14241; City and Borough of Sitka, Alaska, Project No. 2818; Public Utility District No. 1 of Chelan County, Washington, Project No. 2145; Public Utility District No. 1 of Snohomish County, Washington, Project No. 2157; Public Utility District No. 2 of Grant County, Washington, Project No. 2114; Sabine River Authority of Texas and Sabine River Authority, State of Louisiana, Project No. 2305; and Southeast Alaska Power Agency, Project Nos. 2911 and 3015 (collectively, Power Site Reservation Fees Group or Petitioners) filed a petition for declaratory order requesting the Commission find that collection of annual charges under section 10(e)(1) of the Federal Power Act (FPA), 16 U.S.C. 803(e)(1), for hydropower licensees' use and occupancy of lands that they own but that are subject to a power site reservation under FPA section 24, 16 U.S.C. 818, is inconsistent with the language, structure, and purpose of FPA Part I, including section 10(e)(1).

Any person desiring to intervene in or to file a protest or comments regarding this filing must file in accordance with Rules 211 and 214 of the Commission's Rules of Practice and Procedure (18 CFR 385.211, 385.214). Protests and comments will be considered by the Commission in determining the appropriate action to be taken, but will not serve to make filers parties to the proceeding. Any person wishing to become a party must file a notice of intervention or motion to intervene, as appropriate. Such notices, motions, protests or comments must be filed on or before the comment date. On or before the comment date, it is not necessary to serve motions to intervene, protests, or comments on persons other than the Applicant.

The Commission encourages electronic submission of comments, protests, and interventions in lieu of paper using the “eFiling” link at http://www.ferc.gov. Persons unable to file electronically should submit an original and 14 copies of the comment, protest, or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 21, 2012.

Dated: November 26, 2012.
Kimberly D. Bose,
Secretary.

[FR Doc. 2012-29084 Filed 11-30-12; 8:45 am]

BILLING CODE 6717-01-P